DEPARTMENT OF THE INTERIOR

Bureau of Reclamation

Increasing the Storage Capacity of Gerber Reservoir, Klamath Project, OR

AGENCY: Bureau of Reclamation, Interior.

ACTION: Notice of Intent to prepare a draft environmental impact statement.

SUMMARY: Pursuant to section 102(2)(C) of the National Environmental Policy Act of 1969, as amended, the Bureau of Reclamation (Reclamation) proposes to prepare a draft environmental impact statement (EIS) on increasing the storage capacity of Gerber Reservoir, Klamath Project, Oregon.

Reclamation will develop several alternatives to increase the storage capacity of Gerber Reservoir while improving water quality, consistent with protecting fish and wildlife. This potential increase in water supply is needed to help meet the growing water needs in the Klamath River basin, to improve water quality, to facilitate the efforts of the State of Oregon to resolve water rights claims in the Upper Klamath River basin, including facilitation of Klamath tribal water rights claims, and to reduce conflicts over water between the Upper and Lower Klamath River basins.

FOR FURTHER INFORMATION CONTACT: Mr. Gary Baker, Program Manager, Klamath Basin Area Office, 6600 Washburn Way, Klamath Falls, OR 97603; telephone (541) 883-6935.

SUPPLEMENTARY INFORMATION:

Background

Reclamation is studying the feasibility of increasing the storage capacity of Gerber Reservoir, a feature of the Klamath Project. The Klamath Project is a Federal reclamation project in southern Oregon and northern California. Reclamation is undertaking this feasibility study under the authority of Section 2 of the Klamath Basin Water Supply Enhancement Act of 2000 (Pub. L. 106-498) (hereafter referred to as the Enhancement Act). The Enhancement Act authorizes and directs the Secretary of the Interior to engage in feasibility studies of increasing the storage capacity and/or yield of Klamath Project facilities, including Gerber Reservoir.

Reclamation's Technical Service Center engineers in Denver, Colorado, completed a preliminary evaluation in May 1999 to increase the height of Gerber Dam to raise the maximum surface level of the reservoir by up to 3 feet. Reclamation then initiated an appraisal study in October 2000. After the Enhancement Act was enacted, Reclamation discontinued the appraisal study and proceeded directly to a feasibility study. The feasibility study now underway will evaluate the May 1999 study in detail and will consider a range of increased surface levels for the reservoir to increase the storage capacity. Alternatives will be bounded by engineering, economic, and/or environmental considerations.

Public Scoping Process

Scoping for this project began in June 2001 and continued into early fall. News releases and scoping information packets announced public open houses and invited public comments from individuals and groups throughout the Klamath Basin Project area. Later, other news releases and information packets cancelled the informal open houses and extended the date to provide written scoping comments. The extension would allow the written scoping comments to be included in a scoping summary. As a result of the comments received, Reclamation developed a report entitled, “Scoping Summary, Feasibility Study of Increasing the Storage Capacity of Gerber Reservoir, Klamath Project, Oregon, January 2002.” (Summary). During the spring of 2002, Reclamation will solicit public review and comments on the Summary to ensure that significant issues have not been overlooked.

Dated: February 25, 2002.
Frank Michny,
Environmental Officer.

[FR Doc. 02-6021 Filed 3-12-02; 8:45 am]

BILLING CODE 4310-MN-P